ENVIRONMENTAL PROTECTION AGENCY

[EPA-HQ-OECA-2010-0340; FRL-9185-3; EPA ICR Number 1984.04; OMB Control Number 2060-0552]

Agency Information Collection Activities; Submission to OMB for Review and Approval; Comment Request; NESHAP for Plywood and Composite Products (Renewal)

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on or before September 7, 2010.

ADDRESSES: Submit your comments, referencing docket ID number EPA-HQ-OECA-2010-0340 to (1) EPA online using http://www.regulations.gov (our preferred method), or by e-mail to docket.oeca@epa.gov, or by mail to: EPA Docket Center (EPA/DC), Environmental Protection Agency, Enforcement and Compliance Docket and Information Center, mail code 28221T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Learia Williams, Compliance Assessment and Media Programs Division, Office of Compliance, Mail Code 2223A, Environmental Protection Agency, 1200 Pennsylvania Avenue, NW., Washington, DC 20460; telephone number: (202) 564-4113; fax number: (202) 564-0050; e-mail address: williams.learia@epa.gov.

SUPPLEMENTARY INFORMATION: EPA has submitted the following ICR to OMB for review and approval according to the procedures prescribed in 5 CFR 1320.12. On June 2, 2010 (75 FR 30813), EPA sought comments on this ICR pursuant to 5 CFR 1320.8(d). EPA received no comments. Any additional comments on this ICR should be submitted to EPA and OMB within 30 days of this notice.

EPA has established a public docket for this ICR under docket ID number EPA-HQ-OECA-2010-0340, which is available for public viewing online at http://www.regulations.gov, in person viewing at the Enforcement and Compliance Docket in the EPA Docket Center (EPA/DC), EPA West, Room 3334, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket is (202) 566-1752.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov, as EPA receives them and without change, unless the comment contains copyrighted material, Confidential Business Information (CBI), or other information whose public disclosure is restricted by statute. For further information about the electronic docket, go to http://www.regulations.gov.

Title: NESHAP for Plywood and Composite Products (Renewal).

ICR Numbers: EPA ICR Number 1984.04, OMB Control Number 2060-0552.

ICR Status: This ICR is schedule to expire on October 31, 2010. Under OMB regulations, the Agency may continue to conduct or sponsor the collection of information while this submission is pending at OMB. An agency may not conduct or sponsor, and a person is not required to respond to, a collection of information unless it displays a currently valid OMB control number. The OMB control numbers for EPA's regulations in title 40 of the CFR, after appearing in the Federal Register when approved, are listed in 40 CFR part 9, and displayed either by publication in the Federal Register or by other appropriate means, such as on the related collection instrument or form, if applicable. The display of OMB control numbers in certain EPA regulations is consolidated in 40 CFR part 9.

Abstract: The National Emission Standards for Hazardous Air Pollutants (NESHAP) for Plywood and Composite Products were proposed on January 9, 2003, and promulgated on July 30, 2004, and amended on February 16, 2006.

This regulation covers both new and existing plywood and composite wood products (PCWP) facilities. Plywood and/or composite products are manufactured by bonding wood material (fibers, particles, strands, veneers, etc.) or agricultural fiber with resin, generally under head and pressure, to form a structural panel or engineered wood product. Plywood and composite products include, but are not limited to, plywood, veneer, particleboard, oriented strand board, hardboard, fiberboard, medium density fiberboard, laminated strand lumber, laminated veneer lumber, wood I-joists, kiln-dried lumber and glue-laminated beams.

Owners/operators of plywood and composite products facilities are required to submit initial notification, performance tests, and compliance status reports. Also, respondents are required to maintain records of the occurrence and duration of any startup, shutdown, or malfunction in the operation of an affected facility, or any period during which the monitoring system is inoperative. Semiannual reports are required. These notifications, reports, and records are essential in determining compliance and, in general, are required of all sources subject to NESHAP.

Any owner or operator subject to the provisions of this part shall maintain a file of these measurements, and retain the file for at least five years following the date of such measurements, maintenance reports, and records. Performance tests reports are required as this is the Agency's record of a source's initial capability to comply with the emission standard, and they serve as a record of the operating conditions under which compliance was achieved.

All reports are sent to the delegated State or local authority. In the event that there is no such delegated authority, the reports are sent directly to the EPA regional office. This information is being collected to assure compliance with 40 CFR part 63, subpart DDDD, as authorized in section 112 and 114(a) of the Clean Air Act. The required information consists of emissions data and other information that has been determined to be private.

An agency may not conduct or sponsor, and a person is not required to respond to, a collection of information unless it displays a currently valid OMB Control Number. The OMB Control Number for EPA's regulations are listed in 40 CFR part 9 and 48 CFR chapter 15, and are identified on the form and/or instrument, if applicable.

Burden Statement: The annual public reporting and recordkeeping burden for this collection of information is estimated to average 21 hours per response. Burden means the total time, effort, or financial resources expended by persons to generate, maintain, retain, or disclose or provide information to or for a Federal agency. This includes the time needed to review instructions; develop, acquire, install, and utilize technology and systems for the purpose of collecting, validating, and verifying information, processing and maintaining information, and disclosing and providing information. All existing ways will have to adjust to comply with any previously applicable instructions and requirements that have subsequently changed; train personnel to be able to respond to a collection of information; search data sources; complete and review the collection of information; and transmit or otherwise disclose the information.

Respondents/Affected Entities: Plywood and composite products.

Estimated Number of Respondents: 228.

Frequency of Response: Initially and semiannually.

Estimated Total Annual Hour Burden: 11,680.

Estimated Total Annual Cost: $1,120,813 which includes $1,104,853 in labor costs, no capital/startup costs, and $15,960 in operation and maintenance (O&M) costs.

Changes in the Estimates: There is an adjustment in the labor hour burden in this ICR compared to the previous ICR. The labor burden is decreased compared to the most recently approved ICR because the industry is experiencing a flat production with no new facilities anticipated in the three years of this ICR. In addition, the new facilities in the previous ICR have become existing facilities. Existing facilities must demonstrate and report continuing compliance with the requirement.

There is a decrease in the capital/startup and O&M costs compared to the previous ICR because there are no new facilities that must purchase continuous monitoring equipment.

Dated: July 30, 2010.
John Moses,
Director, Collection Strategies Division.

[FR Doc. 2010-19281 Filed 8-4-10; 8:45 am]

BILLING CODE 6560-50-P